ENVIRONMENTAL PROTECTION AGENCY

[EPA-R08-OW-2018-0724; FRL-9986-46-Region 8]

North Dakota Pollutant Discharge Elimination System; Transfer; Correction

AGENCY: Environmental Protection Agency (EPA).

ACTION: Notice of availability and request for comment; correction.

SUMMARY: The Environmental Protection Agency (EPA) issued a document in the Federal Register on October 30, 2018, providing notice of a proposed program revision to transfer the authority to implement and enforce the North Dakota Pollutant Discharge Elimination System (NDPDES) program from the North Dakota Department of Health (NDDOH) to the newly established North Dakota Department of Environmental Quality (NDDEQ).

There was an error in the Docket ID Number. This document corrects that typographical error.

DATES: November 14, 2018.

FOR FURTHER INFORMATION CONTACT: VelRey Lozano, U.S. Environmental Protection Agency, Region 8, (8WP-CWW), 1595 Wynkoop Street, Denver, Colorado 80202-1129, 303-312-6128, email lozano.velrey@epa.gov.

SUPPLEMENTARY INFORMATION: In FR Doc. 2018-23632 appearing on page 54587 in the Federal Register of Tuesday, October 30, 2018, the Docket number is corrected to read as follows: EPA-R08-OW-2018-0724. This correction does not affect the timing of the original comment period. Written comments and/or requests for a public hearing must be received on or before November 29, 2018.

Dated: November 7, 2018.
Darcy O'Connor,
Assistant Regional Administrator, Office of Water Protection.

[FR Doc. 2018-24769 Filed 11-13-18; 8:45 am]

BILLING CODE 6560-50-P